DEPARTMENT OF ENERGY

Federal Energy Regulatory Commission

[Docket No. EL18-143-000]

Notice of Complaint: Public Service Electric and Gas Company v. Consolidated Edison Company of New York, Inc.

Take notice that on May 3, 2018, pursuant to sections 206, 306, and 309 of the Federal Power Act, 16 U.S.C. 824e, 825e, and 825h and Rule 206 of the Federal Energy Regulatory Commission's (Commission) Rules of Practice and Procedure, 18 CFR 385.206, Public Service Electric and Gas Company (Complainant) filed a formal complaint against Consolidated Edison Company of New York, Inc. (Respondent) alleging that Respondent is preventing the removal of dielectric fluid that recently leaked from electric transmission facilities known as the B and C lines that Complainant and Respondent co-own. Complainant asserts that good utility practice requires the removal of the dielectric fluid and retirement of the B and C lines as currently constructed, as more fully explained in the complaint.

Complainant certifies that copies of the complaint were served on contacts for the Respondent, the New York Public Service Commission, and the New Jersey Board of Public Utilities.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondents' answer and all interventions, or protests must be filed on or before the comment date. The Respondents' answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on May 23, 2018.

Dated: May 4, 2018.
Nathaniel J. Davis, Sr.,
Deputy Secretary.

[FR Doc. 2018-10005 Filed 5-10-18; 8:45 am]

BILLING CODE 6717-01-P